DEPARTMENT OF THE TREASURY

Alcohol and Tobacco Tax and Trade Bureau

[Docket No. TTB-2015-0001]

Proposed Information Collections; Comment Request (No. 52)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before June 23, 2015.

ADDRESSES: As described below, you may send comments on the information collections listed in this document using the “Regulations.gov” online comment form for this document, or you may send written comments via U.S. mail or hand delivery. TTB no longer accepts public comments via email or fax.

• http://www.regulations.gov: Use the comment form for this document posted within Docket No. TTB-2015-0001 on “Regulations.gov,” the Federal e-rulemaking portal, to submit comments via the Internet;

• U.S. Mail: Michael Hoover, Regulations and Rulings Division, Alcohol and Tobacco Tax and Trade Bureau, 1310 G Street NW., Box 12, Washington, DC 20005.

• Hand Delivery/Courier in Lieu of Mail: Michael Hoover, Alcohol and Tobacco Tax and Trade Bureau, 1310 G Street NW., Suite 200-E, Washington, DC 20005.

Please submit separate comments for each specific information collection listed in this document. You must reference the information collection's title, form or recordkeeping requirement number, and OMB number (if any) in your comment.

You may view copies of this document, the information collections listed in it and any associated instructions, and all comments received in response to this document within Docket No. TTB-2015-0001 at http://www.regulations.gov. A link to that docket is posted on the TTB Web site at http://www.ttb.gov/forms/comment-on-form.shtml. You may also obtain paper copies of this document, the information collections described in it and any associated instructions, and any comments received in response to this document by contacting Michael Hoover at the addresses or telephone number shown below.

FOR FURTHER INFORMATION CONTACT: Michael Hoover, Alcohol and Tobacco Tax and Trade Bureau, 1310 G Street NW., Box 12, Washington, DC 20005; telephone 202-453-1039, ext. 135; or email informationcollections@ttb.gov (please do not submit comments on this notice to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms, recordkeeping requirements, or questionnaires:

Title: Change of Bond (Consent of Surety).

OMB Number: 1513-0013.

TTB Form Number: TTB F 5000.18.

Abstract: A bond is required in certain circumstances to cover Federal excise tax liabilities incurred from such things as the production, removal, or transfer of certain taxable commodities. A Change of Bond (Consent of Surety), TTB F 5000.18, is executed by both the bonding company and a proprietor when there is a change to a bond filed with TTB. The TTB F 5000.18 acts as a binding legal agreement between the two parties to extend the terms of a bond. TTB F 5000.18 is filed with TTB and a copy is retained by TTB as long as it remains current and in force.

Current Actions: TTB is submitting this collection as a revision. The form remains unchanged. However, we are updating the number of respondents and the total annual burden to reflect a decrease in the number of respondents.

Type of Review: Revision of a currently approved collection.

Affected Public: Businesses or other for-profits.

Estimated Number of Respondents: 2,000.

Estimated Total Annual Burden Hours: 1,330.

Title: Application for and Certification/Exemption of Label/Bottle Approval.

OMB Number: 1513-0020.

TTB Form Number: TTB F 5100.31.

Abstract: To provide consumers with adequate information as to the identity of alcohol beverage products and to prevent consumer deception and unfair advertising practices, the Federal Alcohol Administration Act at 27 U.S.C. 205(e) requires that alcohol beverages sold or introduced into interstate or foreign commerce be labeled in conformity with regulations issued by the Secretary of the Treasury. Further, the producer, bottler, or importer of alcohol beverages must receive approval of the label for such products from TTB prior to their introduction into commerce. TTB F 5100.31 is a dual-use form; industry members use it to request and to obtain the required label approval. The form serves as both an application for and, if approved by TTB, a certificate of label approval (or exemption from a certificate of label approval).

Current Actions: TTB is submitting this collection as a revision. On the TTB F 5100.31 form, TTB is making additions and clarifications to the list of allowable revisions listed in part V of the form. TTB also is updating the number of respondents and the total annual burden to reflect an increase in the number of respondents.

Type of Review: Revision of a currently approved collection.

Affected Public: Businesses or other for-profits.

Estimated Number of Respondents: 8,850.

Estimated Total Annual Burden Hours: 73,618.

Title: Alcohol Fuel Plants (AFP) Records, Reports, and Notices.

OMB Number: 1513-0052.

TTB Form Number: TTB F 5110.75.

TTB Recordkeeping Requirement Number: TTB REC 5110/10.

Abstract: To safeguard Federal alcohol excise tax revenue, 26 U.S.C. 5181 and 5207 require that a proprietor of an alcohol fuel plant (AFP) make such application, maintain such records, and render such reports as the Secretary of the Treasury shall prescribe. The TTB regulations in 27 CFR, part 19, subpart Y, implement those statutory requirements. The information collected under these regulations is necessary to identify and determine that persons are qualified to produce alcohol for fuel purposes, to account for distilled spirits produced and verify its proper disposition, to keep registrations current, and to evaluate permissible variations from prescribed procedures.

Current Actions: TTB is submitting this information collection for extension purposes only. The information collection, estimated number of respondents, and the estimated total annual burden hours remain unchanged.

Type of Review: Extension of a currently approved collection.

Affected Public: Businesses or other for-profits; farms.

Estimated Number of Respondents: 2,618.

Estimated Total Annual Burden Hours: 2,784.

Title: Monthly Report—Tobacco Products or Processed Tobacco Importer.

OMB Number: 1513-0107.

TTB Form Number: TTB F 5220.6.

Abstract: Reports on the importation and disposition of tobacco products and processed tobacco are used, along with other information, to determine whether those persons issued the permits required by 26 U.S.C. 5713 are complying with TTB regulations. Those engaged in importing tobacco products and processed tobacco are required to account for the importation and disposition of such products on a monthly basis.

Current Actions: TTB is submitting this collection as a revision. The form remains unchanged. However, we are updating the number of respondents and the total annual burden to reflect a decrease in the number of respondents.

Type of Review: Revision of a currently approved collection.

Affected Public: Businesses or other for-profits.

Estimated Number of Respondents: 330.

Estimated Total Annual Burden Hours: 3,696.

Title: Formulas for Fermented Beverage Products.

OMB Number: 1513-0118.

TTB Recordkeeping Requirement Number: TTB REC 5052/1.

Abstract: Section 5052 of the Internal Revenue Code of 1986 (IRC) defines the term “beer” to include, among other things, certain products such as beer, ale, porter, and stout. The TTB regulations at 27 CFR 25.55 set forth the circumstances under which the filing of a formula for beer is required. Section 25.55 require, for example, the filing of a written notice in the form of a formula only for certain products that will undergo any manufacturing process not generally recognized as a tradition process in the production of those products designated as beer, ale, porter, or stout, or for certain other non-traditional fermented products produced at a brewery. Brewers file formulas as needed and only for the types of products specified in the regulations. TTB provides that a brewer operating multiple breweries may file a single formula to cover the production of a specified fermented product at all of their breweries.

Current Actions: TTB is submitting this collection as a revision. While TTB has reduced the number of formulas requiring submission by increasing the ingredients and processes that do not require approval, the number of brewers and products in the market place has significantly increased. Therefore, we are updating the number of respondents and the total annual burden to reflect an increase in the number of respondents.

Type of Review: Revision of a currently approved collection.

Affected Public: Businesses or other for-profits.

Estimated Number of Respondents: 505.

Estimated Total Annual Burden Hours: 1,326.

Dated: April 21, 2015.
Amy R. Greenberg,
Director, Regulations and Rulings Division.

[FR Doc. 2015-09574 Filed 4-23-15; 8:45 am]

BILLING CODE 4810-31-P